NATIONAL SCIENCE FOUNDATION

Advisory Committee for Environmental Research and Education; Notice of Meeting

In accordance with the Federal Advisory Committee Act (Pub. L. 92-463, as amended), the National Science Foundation announces the following meeting:

Name: Advisory Committee for Environmental Research and Education (9487).

Dates: September 9, 2009, 9 a.m.-5 p.m. and September 10, 2009, 9 a.m.-1 p.m.

Place: Stafford I, Room 1235, National Science Foundation, 4201 Wilson Blvd., Arlington, Virginia 22230.

Type of Meeting: Open.

Contact Person: Alan Tessier, National Science Foundation, Suite 635, 4201 Wilson Blvd, Arlington, Virginia 22230. Phone 703-292-7198.

Minutes: May be obtained from the contact person listed above.

Purpose of Meeting: To provide advice, recommendations, and oversight concerning support for environmental research and education.

Agenda

September 9

Introduction of New Members.

Update on recent NSF environmental activities.

Public release of the Committee's report: Transitions and Tipping Points in Complex Environmental Systems.

Discussion with Dr. Arden L. Bement, NSF Director.

September 10

Discussion of Future AC/ERE activities.

Joint session with Advisory Committee for Biological Sciences.

Dated: August 11, 2009.
Susanne Bolton,
Committee Management Officer.

[FR Doc. E9-19476 Filed 8-13-09; 8:45 am]

BILLING CODE 7555-01-P